FEDERAL COMMUNICATIONS COMMISSION

[FRS 16818]

Federal Advisory Committee, Hospital Robocall Protection Group

AGENCY: Federal Communications Commission.

ACTION: Notice; intent to establish Federal Advisory Committee.

SUMMARY: In accordance with the Federal Advisory Committee Act, the Federal Communications Commission (hereinafter “Commission”) announces its intent to establish a Federal Advisory Committee (FAC), known as the “Hospital Robocall Protection Group” (hereinafter “the HRPG”).

ADDRESSES: Federal Communications Commission, 445 12th Street SW, Washington, DC 20554.

FOR FURTHER INFORMATION CONTACT: Donna Cyrus, Designated Federal Officer, Federal Communications Commission, Consumer and Governmental Affairs Bureau, (202) 418-7325, or email: Donna.Cyrus@fcc.gov; or Aliza Katz, Deputy Designated Federal Officer, Federal Communications Commission, Consumer and Governmental Affairs Bureau, (202) 418-1737, or email: Aliza.Katz@fcc.gov.

SUPPLEMENTARY INFORMATION: The Chairman of the Federal Communications Commission, as required by Section 14 of the Pallone-Thune Telephone Robocall Abuse Criminal Enforcement and Deterrence Act of 2019, Public Law 116-105, 133 Stat 3274 (TRACED Act), is taking appropriate steps to establish the HRPG, a FAC, which Congress has deemed necessary and in the public interest. After consultation with the General Services Administration, the Commission intends to establish the charter on or before June 25, 2020, providing the HRPG with authorization to operate for approximately 180 days after the HRPG is established, or until such time as it has completed its statutory duties, but in no case more than two years from its establishment.

The purpose of the HRPG is to issue best practices, no later than 180 days from the date it is established, regarding the following: (1) How voice service providers can better combat unlawful robocalls made to hospitals; (2) How hospitals can better protect themselves from such calls, including by using unlawful robocall mitigation techniques; and (3) How the Federal Government and State governments can help combat such calls.

Pursuant to Section 14 of the TRACED Act, the HRPG will be composed of one representative each of the Commission and the Federal Trade Commission and an equal number of representatives from each of the following: (1) Voice service providers that serve hospitals, (2) Companies that focus on mitigating unlawful robocalls, (3) Consumer advocacy organizations, (4) Providers of one-way voice over internet protocol services as defined in subsection (e)(3)(B)(ii) of Section 14 of the TRACED Act, (5) Hospitals, and (6) State government officials focused on combating unlawful robocalls.

Advisory Committee

The HRPG will be organized under, and will operate in accordance with, the provisions of the Federal Advisory Committee Act (FACA) (5 U.S.C. App. 2). The HRPG will be solely advisory in nature. Consistent with FACA and its requirements, each meeting of the HRPG will be open to the public unless otherwise noticed. A notice of each meeting will be published in the Federal Register at least fifteen (15) days in advance of the meeting. Records will be maintained of each meeting and made available for public inspection. All activities of the HRPG will be conducted in an open, transparent, and accessible manner. The HRPG shall terminate no later than two (2) years from the filing date of its charter. The first meeting date and agenda topics will be described in a Public Notice issued and published in the Federal Register at least fifteen (15) days prior to the first meeting date. In addition, as needed, working groups or subcommittees will be established to facilitate the HRPG's work between meetings of the full HRPG. Meetings of the HRPG will be fully accessible to individuals with disabilities.

Accessible Formats: To request materials in accessible formats for people with disabilities (Braille, large print, electronic files, audio format), send an email to fcc504@fcc.gov or call the Consumer and Governmental Affairs Bureau at (202) 418-0530 (voice), 1-888-835-5322 (TTY).

Federal Communications Commission.
Gregory Haledjian,
Legal Advisor, Office of the Bureau Chief, Consumer and Governmental Affairs Bureau.

[FR Doc. 2020-12047 Filed 6-3-20; 8:45 am]

BILLING CODE 6712-01-P